DEPARTMENT OF TRANSPORTATION

Federal Aviation Administration

[Summary Notice No. PE-2001-09]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption part 11 of Title 14, Code of Federal Regulations (14 CFR), this notice contains a summary of certain petitions seeking relief from specified requirements of 14 CFR, dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before February 26, 2001.

ADDRESSES: Send comments on any petition to the Docket Management System, U.S. Department of Transportation, Room Plaza 401, Seventh Street, SW., Washington, DC 20590-0001. You must identify the docket number FAA-2000-XXXX at the beginning of your comments. If you wish to receive confirmation that FAA received your comments, include a self-addressed, stamped postcard.

You may also submit comments through the Internet to http://dms.dot.gov. You may review the public docket containing the petition, any comments received, and any final disposition in person in the Dockets Office between 9 a.m. and 5 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Forest Rawls (202)267-8033, or Vanessa Wilkins (202) 267-8029, Office of Rulemaking (ARM-1), Federal Aviation Administration, 800 Independence Avenue, SW., Washington, DC 20591.

This notice is published pursuant to 14 CFR 11.85 and 11.91.

Issued in Washington, DC, on January 30, 2001.
Donald P. Byrne,
Assistant Chief Counsel for Regulations.

Petitions for Exemption

Docket No.: FAA-2000-8492.

Petitioner: The Boeing Company.

Section of 14 CFR Affected: 14 CFR 25.1435(b)(1).

Description of Relief Sought: To allow compliance for the proof pressure testing requirements of § 25.1435(b)(1) for the Boeing Model 777-200LR and 777-300ER airplanes by (1) similarity to the previously tested hydraulic system on the Model 777-200 for the unchanged parts, and (2) conducting proof pressure tests at the relief valve setting (3,400 psig) for the changed parts of the installations.

Docket No.: FAA-2000-8514.

Petitioner: Addison Aviation Services, Inc.

Section of 14 CFR Affected: 14 CFR 25.857(e)(4).

Description of Relief Sought: To certify Learjet Model 25 series airplanes, to be modified for the carriage of cargo as Class E compartments (an STC project), without meeting the requirements to exclude hazardous quantities of smoke, flames or noxious gases from the flight crew compartment.

Dispositions of Petitions

Docket No.: FAA-2000-8340.

Petitioner: Crossville Flying Service, Inc.

Section of 14 CFR Affected: 14 CFR 135.143(c)(2).

Description of Relief Sought: To permit CFS to operate certain aircraft under part 135 without a TSO-C112 (Mode S) transponder installed in the aircraft.

Grant, 12/08/2000, Exemption No. 7395.

Docket No.: FAA-2000-8499.

Petitioner: Bishop Aviation, Inc.

Section of 14 CFR Affected: 14 CFR 135.134(c)(2).

Description of Relief Sought: To permit Bishop to operate certain aircraft under part 135 without a TSO-C112 (Mode S) transponder installed in the aircraft.

Grant, 12/08/2000, Exemption No. 7394.

Docket No.: FAA-2000-7992.

Petitioner: Hartley, Inc. dba Branch River Air Service.

Section of 14 CFR Affected: 14 CFR 135.143(c)(2).

Description of Relief Sought: To permit Branch River to operate certain aircraft under part 135 without a TSO-C112 (Mode S) transponder installed in the aircraft.

Grant, 12/08/2000, Exemption No. 7396.

Docket No.: FAA-2000-8010.

Petitioner: Fostaire Helicopters.

Section of 14 CFR Affected: 14 CFR 135.143(c)(2).

Description of Relief Sought/Disposition: To permit Fostaire to operate certain aircraft under part 135 without a TSO-C112 (Mode S) transponder installed in the aircraft.

Grant, 12/08/2000, Exemption No. 7397.

Docket No: FAA-2000-8141.

Petitioner: Mulchatna Air.

Section of 14 CFR Affected: 14 CFR 135.143(c)(2).

Description of Relief Sought/Disposition: To permit Mulchatna to operate certain aircraft under part 135 without a TSO-C112 (Mode S) transponder installed in the aircraft.

Grant, 12/08/2000, Exemption No. 7398.

Docket No.: FAA-2000-8338.

Petitioner: Air Cargo Express.

Section of 14 CFR Affected: 14 CFR 135.143(c)(2).

Description of Relief Sought/Disposition: To permit ACE to operate certain aircraft under part 135 without a TSO-C112 (Mode S) transponder installed in the aircraft.

Grant, 12/08/2000, Exemption No. 7403.

Docket No.: FAA-2000-8143.

Petitioner: Peninsula Airways dba PenAir.

Section of 14 CFR Affected: 14 CFR 135.143(c)(2).

Description of Relief Sought/Disposition: To permit PenAir to operate certain aircraft under part 135 without a TSO-C112 (Mode S) transponder installed in the aircraft.

Grant, 12/08/2000, Exemption No. 7402.

Docket No.: FAA-2000-8144.

Petitioner: Indianaero, Inc.

Section of 14 CFR Affected: 14 CFR 135.143(c)(2).

Description of Relief Sought/Disposition: To permit Indianaero to operate certain aircraft under part 135 without a TSO-C112 (Mode S) transponder installed in the aircraft.

Grant, 12/08/2000, Exemption No. 7401.

Docket No.: FAA-2000-8181.

Petitioner: Tundra Ltd.

Section of 14 CFR Affected: 14 CFR 135.143(c)(2).

Description of Relief Sought/Disposition: To permit Tundra to operate certain aircraft under part 135 without a TSO-C112 (Mode S) transponder installed in the aircraft.

Grant, 12/08/2000, Exemption No. 7400.

Petition for Exemption

Docket No.: FAA-2000-8492.

Petitioner: The Boeing Company.

Regulations Affected: 25.1435(b)(1).

Description of Petition: To allow compliance for the proof pressure testing requirements of § 25.1435(b)(1) for the Boeing Model 777-200LR and 777-300ER airplanes by (1) similarity to the previously tested hydraulic system on the Model 777-200 for the unchanged parts, and (2) conducting proof pressure tests at the relief valve setting (3,400 psig) for the changed parts of the installations.

Petition for Exemption

Docket No.: FAA-2000-8514.

Petitioner: Addison Aviation Services, Inc.

Regulations Affected: 14 CFR 25.857(e)(4).

Description of Petition: To certify Learjet Model 25 series airplanes, to be modified for the carriage of cargo as Class E compartments (an STC project), without meeting the requirements to exclude hazardous quantities of smoke, flames or noxious gases from the flight crew compartment.

[FR Doc. 01-2876 Filed 2-1-01; 8:45 am]

BILLING CODE 4910-13-M